GENERAL SERVICES ADMINISTRATION

[OMB Control No. 3090-0248; Docket No. 2024-0001; Sequence No. 10]

Submission for OMB Review; General Services Administration Acquisition Regulation; Electronic Data Interchange (EDI) Information

AGENCY: Office of Acquisition Policy, General Services Administration (GSA).

ACTION: Notice and request for public comments.

SUMMARY: In accordance with the Paperwork Reduction Act of 1995, and the Office of Management and Budget (OMB) regulations, GSA invites the public to comment on a request to review and approve an extension of a previously approved information collection requirement for a placement of orders clause, and an ordering information provision.

DATES: Submit comments on or before: December 23, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Vernita Misidor, Procurement Analyst, GSA Acquisition Policy Division, by phone at 202-357-9681 or by email at gsarpolicy@gsa.gov.

SUPPLEMENTARY INFORMATION:

A. Purpose

GSA has various mission responsibilities related to the acquisition and provision of the Federal Acquisition Service's (FAS's) Special Order Program items. These mission responsibilities generate requirements that are realized through the solicitation and award of various types of FAS contracts.

As such, the General Services Administration Acquisition Regulation (GSAR) 516.506 specifically directs contracting officers to insert 552.216-72, Placement of Orders, and 552.216-73, Ordering Information, when the contract authorizes FAS and other activities to issue delivery or task orders. This clause and provision includes information reporting requirements for Offerors to receive electronic orders through computer-to-computer Electronic Data Interchange (EDI).

B. Annual Reporting Burden

Respondents: 18,590.

Responses per Respondent: 1.

Annual Responses: 18,590.

Hours per Response: .50.

Total Burden Hours: 9,295.

C. Public Comments

A 60-day notice published in the Federal Register at 89 FR 76831 on September 19, 2024. No comments were received.

Obtaining Copies of Proposals: Requesters may obtain a copy of the information collection documents from the Regulatory Secretariat Division by calling 202-501-4755 or emailing GSARegSec@gsa.gov. Please cite OMB Control No. 3090-0248, Electronic Data Interchange (EDI) Information, in all correspondence.

Jeffrey A. Koses,
Senior Procurement Executive, Office of Acquisition Policy, Office of Government-wide Policy.

[FR Doc. 2024-27397 Filed 11-21-24; 8:45 am]

BILLING CODE 6820-61-P